DEPARTMENT OF TRANSPORTATION

Federal Aviation Administration

14 CFR Part 97

[Docket No. 30449; Amdt. No. 3125]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective June 23, 2005. The compliance date for each SIAP and/or Weather Takeoff Minimums is specified in the amendatory provisions.

The incorporation by reference of certain publications listed in the regulations is approved by the Director of the Federal Register as of June 23, 2005.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to Title 14 of the Code of Federal Regulations, part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC on June 17, 2005.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 7 Jul 2005

Plymouth, MA, Plymouth Muni, ILS OR LOC/DME RWY 6, Orig

Plymouth, MA, Plymouth Muni, LOC/DME RWY 6, Orig, CANCELLED

Newark, NJ, Newark Liberty Intl, ILS OR LOC RWY 22R, Amdt 4

West Dover, VT, Mount Snow, NDB RWY 1, Amdt 1

West Dover, VT, Mount Snow, RNAV (GPS) RWY 1, Orig

West Dover, VT, Mount Snow, Takeoff Minimums and Textual DP, Amdt 1

Effective 1 Sep 2005

Batesville, AR, Batesville Regional, RNAV (GPS) RWY 7, Orig

Batesville, AR, Batesville Regional, RNAV (GPS) RWY 25, Orig

Batesville, AR, Batesville Regional, LOC RWY 7, Orig

Batesville, AR, Batesville Regional, NDB OR GPS RWY 7, Amdt 5D, CANCELLED

Batesville, AR, Batesville Regional, Takeoff Minimums and Textual DP, Amdt 2

Fort Huachuca-Sierra Vista, AZ, Sierra Vista Muni-Libby AAF, VOR RWY 26, Amdt 4

Fort Huachuca-Sierra Vista, AZ, Sierra Vista Muni-Libby AAF, NDB RWY 26, Amdt 4

Fort Huachuca-Sierra Vista, AZ, Sierra Vista Muni-Libby AAF, ILS OR LOC RWY 26, Amdt 3

Fort Huachuca-Sierra Vista, AZ, Sierra Vista Muni-Libby AAF, RNAV (GPS) RWY 8, Orig

Fort Huachuca-Sierra Vista, AZ, Sierra Vista Muni-Libby AAF, RNAV (GPS) RWY 26, Orig

Fort Huachuca-Sierra Vista, AZ, Sierra Vista Muni-Libby AAF, GPS RWY 8, Orig-B, CANCELLED

Fort Huachuca-Sierra Vista, AZ, Sierra Vista Muni-Libby AAF, GPS RWY 26, Orig-A, CANCELLED

Yuma, AZ, Yuma MCAS-Yuma Intl, VOR RWY 17, Amdt 5A, CANCELLED

Yuma, AZ, Yuma MCAS-Yuma Intl, VOR/DME OR TACAN-1 RWY 17, Amdt 1B, CANCELLED

Yuma, AZ, Yuma MCAS-Yuma Intl, VOR/DME RNAV RWY 21R, Amdt 4A, CANCELLED

Yuma, AZ, Yuma MCAS-Yuma Intl, ILS RWY 21R, Amdt 5A, CANCELLED

Yuma, AZ, Yuma MCAS-Yuma Intl, GPS RWY 17, Orig-B, CANCELLED

Yuma, AZ, Yuma MCAS-Yuma Intl, GPS RWY 21R, Orig-A, CANCELLED

Yuma, AZ, Yuma MCAS-Yuma Intl, Takeoff Minimums and Textual DP, Amdt 2, CANCELLED

Los Angeles, CA, Los Angeles Intl, Takeoff Minimums and Textual DP, Amdt 11

Visalia, CA, Visalia Muni, NDB RWY 30, Amdt 3B, CANCELLED

Aspen, CO, Aspen-Pitkin County/Sardy Field, LOC/DME-E, Orig

Washington, DC, Washington Dulles Intl, ILS OR LOC RWY 1R, ILS RWY 1R (CAT II), ILS RWY 1R (CAT III), Amdt 23

Washington, DC, Washington Dulles Intl, ILS OR LOC RWY 19L, Amdt 12

Washington, DC, Washington Dulles Intl, CONVERGING ILS RWY 19L, Amdt 6

Caldwell, ID, Caldwell Industrial, NDB RWY 30, Amdt 1

Caldwell, ID, Caldwell Industrial, RNAV (GPS) RWY 12, Orig

Caldwell, ID, Caldwell Industrial, RNAV (GPS) RWY 30, Orig

Caldwell, ID, Caldwell Industrial, GPS RWY 12, Orig-A, CANCELLED

Caldwell, ID, Caldwell Industrial, GPS RWY 30, Orig-A, CANCELLED

Caldwell, ID, Caldwell Industrial, Takeoff Minimums and Textual DP, Amdt 5

Terre Haute, IN, Terre Haute International-Hulman Field, RNAV (GPS) RWY 14, Orig

Terre Haute, IN, Terre Haute International-Hulman Field, RNAV (GPS) RWY 32, Orig

Terre Haute, IN, Terre Haute International-Hulman Field, GPS RWY 32, Orig, CANCELLED

Terre Haute, IN, Terre Haute International-Hulman Field, VOR/DME RNAV RWY 32, Amdt 8, CANCELLED

Slidell, LA, Slidell, RNAV (GPS) RWY 36, Orig-A

Jefferson City, MO, Jefferson City Meml, LOC BC RWY 12, Amdt 6D, CANCELLED

Joplin, MO, Joplin Regional, RNAV (GPS) RWY 13, Orig

Joplin, MO, Joplin Regional, RNAV (GPS) RWY 18, Orig

Joplin, MO, Joplin Regional, RNAV (GPS) RWY 31, Orig

Joplin, MO, Joplin Regional, RNAV (GPS) RWY 36, Orig

Joplin, MO, Joplin Regional, ILS OR LOC/DME RWY 18, Amdt 2

Joplin, MO, Joplin Regional, ILS OR LOC/NDB RWY 13, Orig

Joplin, MO, Joplin Regional, ILS RWY 13, Amdt 23B, CANCELLED

Joplin, MO, Joplin Regional, LOC BC RWY 31, Amdt 21

Joplin, MO, Joplin Regional, GPS RWY 13, Orig, CANCELLED

Joplin, MO, Joplin Regional, GPS RWY 18, Orig, CANCELLED

Joplin, MO, Joplin Regional, GPS RWY 36, Orig-A, CANCELLED

Joplin, MO, Joplin Regional, NDB RWY 13, Amdt 25

Joplin, MO, Joplin Regional, Takeoff Minimums and Textual DP, Amdt 4

Billings, MT, Billings Logan Intl, RNAV (GPS) RWY 10L, Amdt 1

Billings, MT, Billings Logan Intl, RNAV (GPS) RWY 28R, Amdt 1

Berlin, NH, Berlin Muni, NDB RWY 18, Orig-C, CANCELLED

Blairstown, NJ, Blairstown, VOR RWY 25, Amdt 2

Blairstown, NJ, Blairstown, RNAV (GPS) RWY 7, Orig

Blairstown, NJ, Blairstown, RNAV (GPS) RWY 25, Orig

Blairstown, NJ, Blairstown, GPS RWY 7, Orig, CANCELLED

Middletown, NY, Randall, RNAV (GPS) RWY 8, Orig

Middletown, NY, Randall, RNAV (GPS) RWY 26, Orig

Middletown, NY, Randall, GPS RWY 8, Orig, CANCELLED

Middletown, NY, Randall, GPS RWY 26, Orig, CANCELLED

Tulsa, OK, Richard Lloyd Jones Jr, RNAV (GPS) RWY 1L, Orig

Tulsa, OK, Richard Lloyd Jones Jr, ILS OR LOC RWY 1L, Amdt 1

Tulsa, OK, Richard Lloyd Jones Jr, GPS RWY 1L, Orig-A, CANCELLED

Eugene, OR, Mahlon Sweet Field, VOR/DME OR TACAN RWY 34L, Amdt 4D

Eugene, OR, Mahlon Sweet Field, VOR/DME OR TACAN RWY 16R, Amdt 4C

Eugene, OR, Mahlon Sweet Field, NDB RWY 16R, Amdt 29D

Eugene, OR, Mahlon Sweet Field, ILS OR LOC RWY 16R, ILS RWY 16R (CAT II), Amdt 34C

St. Marys, PA, St. Marys Muni, RNAV (GPS) RWY 10, Orig

St. Marys, PA, St. Marys Muni, VOR/DME RNAV RWY 10, Amdt 5B, CANCELLED

Rapid City, SD, Rapid City Regional, RNAV (GPS) RWY 14, Amdt 1

Millington, TN, Millington Muni, GPS RWY 4, Orig-A, CANCELLED

Millington, TN, Millington Muni, RNAV (GPS) RWY 4, Orig

The FAA published an Amendment in Docket No. 30447, Amdt No. 3124 to Part 97 of the Federal Aviation Regulations (Vol 70, FR No. 115, pages 34992-34993; dated June 16, 2005) under section 97.33 effective 7 JUL 2005, which is hereby rescinded:

Castroville, TX, Castroville Muni, RNAV (GPS) RWY 15, Orig

Raton, NM, Raton Municipal/Crews Field, NDB RWY 2, Amdt 5

[FR Doc. 05-12362 Filed 6-22-05; 8:45 am]

BILLING CODE 4910-13-P